DEPARTMENT OF COMMERCE

National Oceanic and Atmospheric Administration

Notice of Public Meeting

AGENCY: National Oceanic and Atmospheric Administration, Commerce.

ACTION: Notice of public meeting.

SUMMARY: The Advisory Committee on Commercial Remote Sensing (ACCRES) will meet September 24, 2012.

DATES: The meeting is scheduled as follows: September 24, 2012, 1 p.m.-4 p.m. The meeting will be open to the public.

ADDRESSES: The meeting will be held in the Building SSMC-4 auditorium of the National Oceanic and Atmospheric Administration (NOAA), Silver Spring, MD 20910. The NOAA auditorium is located at 1301 East West Highway (SSMC-4 1301 auditorium on the right), Silver Spring, Maryland 20910.

FOR FURTHER INFORMATION CONTACT: Tahara Dawkins, NOAA/NESDIS/CRSRA, 1335 East West Highway, Room 8260, Silver Spring, Maryland 20910; telephone (301) 713-3385, fax (301) 713-1249, email Tahara.Dawkins@noaa.gov, or Richard James at telephone (301) 713-0572, email Richard.James@noaa.gov.

SUPPLEMENTARY INFORMATION: As required by section 10(a) (2) of the Federal Advisory Committee Act, 5 U.S.C. App. (1982), notice is hereby given of the meeting of ACCRES. ACCRES was established by the Secretary of Commerce (Secretary) on May 21, 2002, to advise the Secretary through the Under Secretary of Commerce for Oceans and Atmosphere on long-range and short-range strategies for the licensing of commercial remote sensing satellite systems.

Matters To Be Considered

The meeting will be open to the public pursuant to Section 10(d) of the Federal Advisory Committee Act, 5 U.S.C. App. 2, as amended by Section 5(c) of the Government in Sunshine Act, Public Law 94-409 and in accordance with Section 552b(c)(1) of Title 5, United States Code.

All other portions of the meeting will be open to the public. The Committee will receive a presentation on updates of NOAA's licensing activities. The committee will also receive public comments on its activities.

Special Accommodations

These meetings are physically accessible to people with disabilities. Requests for special accommodations may be directed to ACCRES, NOAA/NESDIS/CRSRA, 1335 East West Highway, Room 8260, Silver Spring, Maryland 20910.

Additional Information and Public Comments

Any member of the public wishing further information concerning the meeting or who wishes to submit oral or written comments should contact Tahara Dawkins, Designated Federal Officer for ACCRES, NOAA/NESDIS/CRSRA, 1335 East West Highway, Room 8260, Silver Spring, Maryland 20910. Copies of the draft meeting agenda can be obtained from Richard James at (301) 713-0572, fax (301) 713-1249, or email richard.james@noaa.gov.

The ACCRES expects that public statements presented at its meetings will not be repetitive of previously-submitted oral or written statements. In general, each individual or group making an oral presentation may be limited to a total time of five minutes. Written comments (please provide at least 15 copies) received in the NOAA/NESDIS/CRSRA on or before September 19, 2012, will be provided to Committee members in advance of the meeting. Comments received too close to the meeting date will normally be provided to Committee members at the meeting.

Dated: September 6, 2012.
Mary E. Kicza,
Assistant Administrator for Satellite and Information Services.

[FR Doc. 2012-22383 Filed 9-17-12; 8:45 am]

BILLING CODE 3510-HR-P